DEPARTMENT OF COMMERCE

National Oceanic and Atmospheric Administration

50 CFR Part 648

[Docket No. 0809251266 81485 02]

RIN 0648-XQ56

Fisheries of the Northeastern United States; Scup Fishery; Adjustment to the 2009 Winter II Quota

AGENCY: National Marine Fisheries Service (NMFS), National Oceanic and Atmospheric Administration (NOAA), Commerce.

ACTION: Temporary rule; inseason adjustment.

SUMMARY: NMFS adjusts the 2009 Winter II commercial scup quota. This action complies with Framework Adjustment 3 (Framework 3) to the Summer Flounder, Scup, and Black Sea Bass Fishery Management Plan, which established a process to allow the rollover of unused commercial scup quota from the Winter I period to the Winter II period.

DATES: Effective September 15, 2009, through December 31, 2009.

FOR FURTHER INFORMATION CONTACT: Sarah Bland, Fishery Management Specialist, (978) 281-9257.

SUPPLEMENTARY INFORMATION: NMFS published a final rule in the Federal Register on November 3, 2003 (68 FR 62250), implementing a process, for years in which the full Winter I commercial scup quota is not harvested, to allow unused quota from the Winter I period (January 1 through April 30) to be added to the quota for the Winter II period (November 1 through December 31), and to allow adjustment of the commercial possession limits for the Winter II period commensurate with the amount of quota rolled over from the Winter I period.

For 2009, the initial Winter II quota is 1,334,791 lb (605 mt), and the best available landings information indicates that 14,960 lb (7 mt) remain of the Winter I quota of 3,777,443 lb (1,713 mt). Consistent with the intent of Framework 3, the full amount of unused 2009 Winter I quota is transferred to Winter II, resulting in a revised 2009 Winter II quota of 1,349,751 lb (612 mt). Because the amount transferred is less than 499,999 lb (227 mt), the possession limit per trip will remain 2,000 lb (907 kg) during the Winter II quota period, consistent with the final rule Winter I to Winter II possession limit increase table (table 4) published in the 2009 final scup specifications (74 FR 35, January 2, 2009).

Classification

This action is required by 50 CFR part 648 and is exempt from review under Executive Order 12866.

Authority: 16 U.S.C. 1801 et seq.

Dated: September 10, 2009.
Alan D. Risenhoover,
Director, Office of Sustainable Fisheries, National Marine Fisheries Service.

[FR Doc. E9-22176 Filed 9-14-09; 8:45 am]

BILLING CODE 3510-22-S